NATIONAL SCIENCE FOUNDATION

Committee Management; Notice of Establishment

The Director of the National Science Foundation has determined that the establishment of the Advisory Committee for Environmental Research and Education is necessary and in the public interest in connection with the performance of duties imposed upon the National Science Foundation (NSF), by 42 U.S.C. 1861 et seq. This determination follows consultation with the Committee Management Secretariat, General Services Administration.

Name of Committee: Advisory Committee for Environmental Research and Education (5326).

Purpose: Advise NSF on the impact of its research support and NSF-wide policies on the scientific community; provide input into developing long range plans; and perform oversight of program management, overall program balance, and other aspects of program performance for the environmental research portfolio with NSF.

Responsible NSF Official: Marge Cavanaugh, Staff Associate for the Environment, National Science Foundation, 4201 Wilson Boulevard, Suite 1205, Arlington, VA 22230, telephone, (703) 306-1003.

Dated: April 24, 2000.
Karen J. York,
Committee Management Officer.

[FR Doc. 00-10525 Filed 4-26-00; 8:45 am]

BILLING CODE 7555-01-M